DEPARTMENT OF HEALTH AND HUMAN SERVICES

Health Resources and Services Administration

Agency Information Collection Activities: Proposed Collection: Public Comment Request; Information Collection Request Title: Maternal Health Portfolio Evaluation Design, OMB No. 0906-0059, Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than November 17, 2023.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the information request collection title for reference.

Information Collection Request Title: Maternal Health Portfolio Evaluation Design OMB No. 0906-0059—Revision.

Abstract: HRSA programs provide health care to people who are geographically isolated, economically, or medically vulnerable. HRSA programs help those in need of high quality primary health care, such as pregnant women and mothers. Improving maternal health outcomes and access to quality maternity care services is a key component of the HRSA mission. HRSA's Maternal and Child Health Bureau provides funding to address some of the most urgent issues influencing the high rates of maternal mortality. With this emphasis on improving maternal health across the life course and promoting optimal health for all mothers, HRSA is employing a multipronged strategy to address maternal mortality and severe maternal morbidity through the following programs:

1. The State Maternal Health Innovation Program,

2. The Alliance for Innovation on Maternal Health Program,

3. The Alliance for Innovation on Maternal Health—Community Care Initiative,

4. The Rural Maternity and Obstetrics Management Strategies Program, and

5. The Supporting Maternal Health Innovation Program.

HRSA is conducting a portfolio-wide evaluation of HRSA-supported Maternal Health Programs with a primary focus on reducing maternal mortality. Through this evaluation, HRSA seeks to identify individual and/or collective strategies, interrelated activities, and common themes within and across the Maternal Health Programs that may be contributing to or driving improvements in key maternal health outcomes. HRSA seeks to ascertain which components should be elevated and replicated to the national level, as well as inform future investments to reduce rates of maternal mortality and severe maternal morbidity.

Need and Proposed Use of the Information: HRSA seeks to understand the impact of HRSA's investments into maternal health programs. These five HRSA maternal health programs represent a total of 12 state-based grantees and three grantees with the potential for national reach. In understanding the strategies that are most effective in reducing maternal morbidity and mortality, HRSA will be able to determine which program elements could be replicated and/or scaled up nationally.

Likely Respondents: Likely respondents are recipients of the cooperative agreements mentioned above (State Maternal Health Innovation Program, Alliance for Innovation on Maternal Health Program, Alliance for Innovation on Maternal Health—Community Care Initiative, and Supporting Maternal Health Innovation Program) which include state health agencies, national organizations, and academic organizations.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number responses per respondent | Total responses | Average burden per response (in hours) | Total burden hours
Instrument 1: Interview guide for grantee staff | 60 | 1.0 | 60 | 1.125 | 67.50
Instrument 2: Interview guide for HRSA Project Officers | 7 | 1.0 | 7 | 1.500 | 10.50
Instrument 3: Partnership Survey | 290 | .5 | 145 | 0.250 | 36.25
Instrument 4: Web-based data collection tool | 12 | 1.0 | 12 | 0.500 | 6.00
Total | 369 |  | 224 |  | 120.25

HRSA specifically requests comments on (1) the necessity and utility of the proposed information collection for the proper performance of the agency's functions, (2) the accuracy of the estimated burden, (3) ways to enhance the quality, utility, and clarity of the information to be collected, and (4) the use of automated collection techniques or other forms of information.

Maria G. Button,
Director, Executive Secretariat.

[FR Doc. 2023-20101 Filed 9-15-23; 8:45 am]

BILLING CODE 4165-15-P